DEPARTMENT OF EDUCATION

National Assessment Governing Board; Meeting

AGENCY: Department of Education, National Assessment Governing Board.

ACTION: Notice of Open Meeting and Partially Closed Meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than May 5, 2008. We will attempt to meet requests after this date, but cannot guarantee availability of the requested accommodation. The meeting site is accessible to individuals with disabilities.

Dates: May 15-17, 2008

Times

May 15

Committee Meeting

Assessment Development Committee: Open Session 1-2:30 p.m.

Ad Hoc Committee: Open Session—2:30 p.m. to 4:15 p.m.

Executive Committee: Open Session—4:30 p.m. to 5 p.m.; Closed Session—5 p.m. to 6 p.m.

May 16

Full Board: Open Session—8:30 a.m. to 9 a.m..; Closed Session—12 p.m. to 1 p.m.; Open Session—1 p.m. to 3:45 p.m.

Committee Meetings

Assessment Development Committee: Closed Session—9 a.m. to 11:30 a.m.; Open Session—11:30 a.m.-12 p.m.

Committee on Standards, Design and Methodology: Closed Session—9 a.m. to 10:30 p.m.; Open Session 10:30 a.m.—12 p.m.

Reporting and Dissemination Committee: Open Session—9 a.m. to 12 p.m.;

May 17

Nominations Committee: Closed Session—8:15 a.m. to 8:45 a.m.

Full Board: Open Session—9 a.m. to 12 p.m.

Location: Roosevelt Hotel, 45 East 45th Street and Madison Avenue, NewYork, NY 10017.

FOR FURTHER INFORMATION CONTACT: Munira Mwalimu, Operations Officer, National Assessment Governing Board, 800 North Capitol Street, NW., Suite 825, Washington, DC, 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On Thursday May 15 from 1 p.m. to 2:30 p.m. the Assessment Development Committee will meet in open session. The Ad Hoc Committee on NAEP Testing and Reporting on Students with Disabilities and English Language Learners will meet in open session from 2:30 p.m. to 4:15 p.m. and the Executive Committee will meet in open session from 4:30 p.m. to 5 p.m. From 5 p.m. to 6 p.m. the Executive Committee will meet in closed session to receive a briefing from the National Center for Education Statistics on options for the National Assessment of Educational Progress (NAEP) contracts covering the 2008-2012 assessment years, based on funding for Fiscal Year 2010. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contract awards, and is therefore protected by exemption 9(B) of section 552b(c) of Title 5 U.S.C.

On May 16, the full Board will meet in open session from 8:30 a.m. to 9 a.m. The Board will approve the agenda and the March 2008 Board minutes. Thereafter, the Governing Board will receive a report from the Executive Director of the Governing Board, and hear an update on the work of the National Center for Education Statistics (NCES).

On May 16, the Board's standing committees—the Assessment Development Committee, the Committee on Standards, Design and Methodology, and the Reporting and Dissemination Committee will meet from 9 a.m. to 12 p.m.

The Assessment Development Committee will meet in closed session from 9 a.m. to 11:30 a.m. on Friday, May 16, and in open session from 11:30 a.m. to noon. The closed session is required to allow the Committee to discuss procurements for developing new NAEP frameworks in world history and technological literacy; to receive a briefing on an NCES reading content alignment study; and to review secure NAEP science pilot items for the 2009 assessment. The meeting must be conducted in closed session to allow the Committee to discuss confidential procurement information involving statements of work for new NAEP frameworks; to review results of a reading content alignment study of secure NAEP items for the 2009 reading assessment, and to review secure science pilot items for grades 4, 8, and 12 for the 2009 NAEP assessment. Public disclosure of the framework procurement information, prior to release of the Request for Proposals, would provide unfair advantage to potential bidders present at the meeting. This would significantly impede implementation of the NAEP program, and is therefore protected by exemption 9(B) of section 552b(c) of Title 5 U.S.C. The reading content alignment discussion and review of science pilot items must be conducted in closed session as disclosure of proposed test items for the reading and science assessments would significantly impede implementation of the NAEP program, and is therefore protected by exemption 9(B) of section 522b(c) of Title 5 U.S.C. From 11:30 to noon the Committee will meet in open session.

The Committee on Standards, Design and Methodology will meet in closed session from 9 a.m. to 10:30 a.m. on Friday, May 16, and in open session from 10:30 a.m. to noon. The closed session is required to allow the Committee to discuss procurements for setting achievement levels on the 2009 NAEP subjects and trend implications for this work. The meeting must be conducted in closed session in order to allow the Committee to discuss confidential procurement options for structuring the work statements. Public disclosure of this information, prior to release of the Request for Proposals, would provide unfair advantage to potential bidders present at the meeting. This would significantly impede implementation of the NAEP program, and is therefore protected by exemption 9(B) of section 552b(c) of Title 5 U.S.C.

The Reporting and Dissemination Committee will meet in open session from 9 a.m.-12 p.m.

The full Board will meet in closed session on May 16 from 12 p.m. to 1 p.m. to receive a briefing from the National Center of Education Statistics on results of the National Indian Education Study conducted by NAEP which has not been released to the public. The Governing Board will be provided with embargoed data on the results of the Indian Education Study that cannot be discussed in an open meeting prior to their official release. The meeting must therefore be conducted in closed session as premature disclosure of data would significantly impede implementation of the NAEP program, and is therefore protected by exemption 9(B) of section 552b(c) of Title 5 U.S.C.

On May 16, from 1 p.m. to 3:45 p.m. the full Board will meet in open session to hear a presentation from the Commissioner, New York State Education Department. The Board will also hear a panel discussion on New York State and New York City Schools to address issues related to standards and assessments. The May 16 session of the Board meeting is scheduled to adjourn at 3:45 p.m.

On May 17, the Nominations Committee will meet in closed session from 8:15 a.m. to 8:45 a.m. to review and discuss confidential information regarding nominees received/submitted for Board vacancies for terms beginning on October 1, 2008. These discussions pertain solely to internal personnel rules and practices of an agency and will disclose information of a personal nature where disclosure would constitute an unwarranted invasion of personal privacy. As such, the discussions are protected by exemptions 2 and 6 of section 552b(c) of Title 5 U.S.C.

The full Board will meet in open session on May 17 from 9 a.m. to 12 p.m. to hear a presentation on “Inside the NAEP Black Box: Unraveling NAEP's Psychometric Mysteries.” From 10:15 a.m. to 12 p.m. the Board will receive and take action on Committee reports. The May 17, 2008, session of the Board meeting will adjourn at 12 p.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF), on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 1, 2008.
Charles E. Smith,
Executive Director, National Assessment Governing Board, U.S. Department of Education.

[FR Doc. E8-9946 Filed 5-5-08; 8:45 am]

BILLING CODE 4000-01-P